DEPARTMENT OF TRANSPORTATION

Federal Highway Administration

Limitation on Claims for Judicial Review; Re-Evaluation With Respect to the Willits Bypass Project, Willits, CA

AGENCY: Federal Highway Administration (FHWA), DOT.

ACTION: Notice of limitation on claims for judicial review of actions by the California Department of Transportation.

SUMMARY: This notice announces that Federal actions taken by the California Department of Transportation (Caltrans) pursuant to its assigned responsibilities under 23 U.S.C. 327 are final within the meaning of 23 U.S.C. 139(l)(1). FHWA, on behalf of Caltrans, is issuing this notice to announce that, with respect to the State Route 101 Willits Bypass Project in Willits (Mendocino County), California, two Re-evaluations were prepared in order to determine whether a supplemental Environmental Impact Statement (SEIS) should be undertaken. Based upon the analyses contained in the Re-evaluations, Caltrans has made the determination that preparation of a SEIS is not warranted and will therefore not be undertaken.

SUPPLEMENTARY INFORMATION: Caltrans conducted two Re-evaluations of the Final Environmental Impact Statement (FEIS) issued by FHWA in October 2006 (a Record of Decision for which was posted in the Federal Register in January 2007). The first Re-evaluation was conducted in June 2010 in response to new information and changes that were made to the project, including changes to the preferred alignment to reduce and/or avoid impacts, acquisition of mitigations parcels, and relocation of utilities.

The second Re-evaluation was conducted in December 2011 in response to new information and changes that were made to the project, including changes and new information pertaining to Baker's Meadowfoam, agricultural lands, fires, floods, invasive plants, and economic impacts of the mitigation parcels, greenhouse gas, aesthetics, historic properties, and land use.

The purpose of the Re-evaluations was to examine potential environmental impacts resulting from the new information and proposed changes to the Willits Bypass Project and in order to determine whether a SEIS should be prepared in accordance with 40 CFR 1502.9(c). Based upon the Re-evaluations, Caltrans made the determination that preparation of a SEIS was not warranted and would not be undertaken (Caltrans made the determination for the first Re-evaluation on June 17, 2010 and for the second Re-evaluation on December 28, 2011).

A claim seeking judicial review of the June 2010 and December 2011 Federal agency determinations to not undertake a SEIS will be barred if the claim is not filed within 180 days of the initial publication of this notice in the Federal Register.

Copies of the Re-evaluations are available for review by appointment only at the following locations. Please call to make arrangements for viewing:

Caltrans, District 3 Office, 703 B Street, Marysville, CA 95901, 530-741-4393, and Caltrans, District 3 Office, 2379 Gateway Oaks Drive, #150, Sacramento, CA, 916-274-0586.

FOR FURTHER INFORMATION CONTACT: John Webb, Supervisory Environmental Planner, California Department of Transportation, 703 B Street, Marysville, CA 95901, 530-741-4393, John_Webb@dot.ca.gov.

Issued in Sacramento, California, July 12, 2012.

(Catalog of Federal Domestic Assistance Program Number 20.205, Highway Planning and Construction. The regulations implementing Executive Order 12372 regarding intergovernmental consultation on Federal programs and activities apply to this program.)

Issued on: July 17, 2012.
Michael J. Duman,
Chief Operating Officer, Federal Highway Administration, Sacramento, California.

[FR Doc. 2012-17875 Filed 7-20-12; 8:45 am]

BILLING CODE 4910-22-P